DEPARTMENT OF AGRICULTURE

Forest Service

Intent To Prepare an Environmental Impact Statement; Fernow Experimental Forest, Tucker County, WV

AGENCY: Forest Service, USDA.

ACTION: Notice of intent to prepare an Environmental Impact Statement.

SUMMARY: The USDA Forest Service will prepare an Environmental Impact Statement (EIS) to document the analysis and disclose environmental impacts of proposed actions to continue long-term research on the Fernow Experimental Forest, to initiate new research, and to manage the Fernow Experimental Forest for long-term research. The purpose of the proposed research is to evaluate the effectiveness of silvicultural tools that include harvesting, herbicide control of vegetation, and prescribed burning on central Appalachian forest, to better understand ecological dynamics within these forest ecosystems, and to develop management tools, practices and guidelines for central Appalachian hardwood forests.

The 4700-acre Fernow Experimental Forest is situated within the boundary of the Monongahela National Forest in Tucker County, West Virginia and is managed by the Northeastern Research Station of the USDA Forest Service. These proposed research activities are in compliance with the Monongahela National Forest Management Plan, which provides overall guidance for management of the area, including direction for management of the Fernow Experimental Forest.

Public Involvement: The public is invited to comment on the Proposed Action during the analysis process. In order to best use your comments, please submit them in writing within 45 days of this announcement. Additional information at is available on the Web at http://www.fs.fed.us/ne/parsons/Environmental_Impact_Statement. Comments may also be submitted electronically. Contact addresses are provided below.

DATES: Initial comments concerning the proposed action should be received in writing, no later than 45 days from the publication of this notice of intent, in order to be of most use during the analyses. The draft environmental impact statement is expected in January 2005, and the final environmental impact statement is expected June 2005.

ADDRESSES: Please send comments to USDA Forest Service, Timber and Watershed Laboratory, Attn: Fernow EIS, P.O. Box 404, Parsons, WV 26287.

FOR FURTHER INFORMATION CONTACT: Mary Beth Adams, Project leader, USDA Forest Service, Northeastern Research Station, P.O. Box 404, Parsons, WV 26287; (304) 478-2000; mbadams@fs.fed.us.

SUPPLEMENTARY INFORMATION:

Purpose of and Need for Action

Proper management of central Appalachian hardwood forests is important for maintaining the productivity and diversity of these woodlands, and to sustain their value for the many owners and users of forest land throughout the central Appalachians. To do this, management guidelines based on sound scientific research are needed. Often, it is necessary that this research be long-term in scope and duration to adequately describe long-lived forests. Accordingly, to meet these information needs, the purpose of the proposed actions is to: (1) Conduct research on effects of various silvicultural practices on forest productivity, species composition and diversity, wildlife populations and ecosystem processes, and (2) manage the Fernow Experimental Forest for long-term ecosystem research.

Proposed Action

The proposed action involves using the following silvicultural treatments in existing research studies: diameter-limiting cutting treatment on 32.7 acres, single-tree selection on 169.9 acres, financial maturity harvesting method on 189.7 acres, 20.8 acres of small clearcuts, and a shelterwood/prescribed fire treatment of 74 acres. Other treatments include fertilization of a 84.7-acre watershed with ammonium sulfate fertilizer, herbicide treatment of selected trees and prescribed burning on 392 acres, mechanical and chemical treatments of invasive exotic plants to prevent their spread, and maintenance of roads, decks, and other infrastructure.

Responsible Official: Mary Beth Adams, Project Leader, USDA Forest Service, Northeastern Research Station, P.O. Box 404, Parsons, WV 26287.

Nature of Decision To Be Made

The decision to be made is whether or not to conduct research and management activities, including harvesting, prescribed fire fertilization, and use of herbicides, on approximately 900 acres of the Fernow Experimental Forest.

Scoping Process

The Forest Service is soliciting comments form Federal, State and local agencies, and other individuals or organizations that may be interested in or affected by the proposed research activities, by contacting persons and organizations on the Fernow's mailing list and publishing a notice in the local newspaper. No scoping meetings are planned at this time. The present solicitation is for comments on this Notice of Intent and scoping material available elsewhere.

Preliminary Issues

Preliminary or potential issues have been identified from previous public comments:

(1) Timber harvesting and prescribed burning may decrease land productivity through increased erosion, and thereby increasing sediment inputs to streams.

(2) Habitat of federally endangered wildlife species may be affected by logging and prescribed burning.

(3) Addition of ammonium sulfate fertilizer to a watershed may increase acidity downstream of the treatment reach, and adversely affect trout populations.

Comments Requested

This notice of intent initiates the scoping process that guides the development of the environmental impact statement. Comments in response to this solicitation for information should focus on: (1) The proposed research manipulations and management actions (2) possible alternatives for addressing issues associated with the proposal and (3) any possible impacts associated with proposal based on an individual's civil rights (race, color, national origin, age, relation, gender, disability, political beliefs, sexual orientation, martial or family status). We are especially interested in information that might identify a specific undesired result of implementing the proposed actions. Comments received in response to this solicitation, including names and address of those who comment, will be considered part of the public record on this proposed action and will be available for public inspection. Comments submitted anonymously, will be accepted and considered; however, those who submit anonymous comments will not have standing to appeal the subsequent decisions under 36 CFR parts 215 or 217. Additionally, pursuant to 7 CFR 1.27(d), any persons may request the agency to withhold a submission from the public record by showing how the FOIA (Freedom of Information Act) permits such confidentiality. Persons requesting such confidentiality should be aware that under FOIA confidentiality may be granted in only very limited circumstances, such as to protect trade secrets. The Forest Service will inform the requester of the agency's decision regarding the request for confidentiality and, should the request be denied, return the submission and notify the requester that the comments may be resubmitted with or without name and address within 90 days.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: September 14, 2004.
Mary Beth Adams,
Project Leader, NE-4353.

[FR Doc. 04-21046 Filed 9-17-04; 8:45 am]

BILLING CODE 3410-11-M